DEPARTMENT OF ENERGY

Federal Energy Regulatory Commission

Notice of Effectiveness of Exempt Wholesale Generator Status

| Docket Nos.
Dominion Bridgeport Fuel Cell, LLC | EG13-31-000
Arlington Valley Solar Energy II, LLC | EG13-32-000
Solar Star California XIX, LLC | EG13-33-000
Solar Star California XX, LLC | EG13-34-000
Cabrillo Power I LLC | EG13-35-000
Catalina Solar Lessee, LLC | EG13-36-000
Ituiutaba Bioenergia Ltda. | FC13-8-000
Central Itumbiara de Bioenergia e Alimentos S.A. | FC13-9-000

Take notice that during the month of July 2013, the status of the above-captioned entities as Exempt Wholesale Generators or Foreign Utility Companies became effective by operation of the Commission's regulations. 18 CFR 366.7(a).

Dated: August 19, 2013.
Kimberly D. Bose,
Secretary.

[FR Doc. 2013-20604 Filed 8-22-13; 8:45 am]

BILLING CODE 6717-01-P